DEPARTMENT OF STATE

[Public Notice: 12642]

International Maritime Organization Eleventh Session of the Sub-Committee on Ship Systems and Equipment (SSE) Meeting

ACTION: Notice of public meeting.

The Department of State will conduct a public meeting at 1 p.m. on Thursday, February 13, 2025, both in-person at Coast Guard Headquarters in Washington, DC, and via teleconference. The primary purpose of the meeting is to prepare for the 11th session of the International Maritime Organization's (IMO) Sub-committee on Ship Systems and Equipment (SSE) to be held at IMO Headquarters in London, United Kingdom from Monday, February 24 to Friday, February 28, 2025.

Members of the public may participate up to the capacity of the teleconference via Microsoft Teams, which can handle 500 participants or up to the seating capacity of the room if attending in person. The meeting location will be the United States Coast Guard Headquarters, and the teleconference line will be provided to those who RSVP. To RSVP, participants should contact the meeting coordinator, LT Jeff Bors, by email at jeffrey.s.bors@uscg.mil, via phone at (571) 610-2849. LT Bors will provide access information for in-person and virtual attendance.

The agenda items to be considered at SSE 11 include:

—Adoption of the agenda

—Decisions of other IMO bodies

—New requirements for ventilation of survival craft (7.36)

—Development of design and prototype test requirements for the arrangements used in the operational testing of free-fall lifeboat release systems without launching the lifeboat (7.33)

—Revision of SOLAS chapter III and the LSA Code (2.16)

—Amendments to SOLAS chapter III and chapter IV of the LSA Code to require the carriage of self-righting or canopied reversible life rafts for new ships (7.30)

—Review and update of the Code of practice for atmospheric oil mist detectors (MSC.1/Circ.1086)

—Revision of the 2010 FTP Code to allow for new fire protection systems and materials (7.34)

—Review and update SOLAS regulation II-2/9 on containment of fire to incorporate existing guidance and clarify requirements

—Unified interpretation of provisions of IMO safety, security, environment, facilitation, liability and compensation-related conventions (7.1)

—Validated model training courses (6.2)

—Development of amendments to SOLAS chapter II-2 and the FSS Code concerning detection and control of fires in cargo holds and on the cargo deck of containerships (7.15)

—Development of provisions to consider prohibiting the use of fire-fighting foams containing fluorinated substances, in addition to PFOS, for fire-fighting on board ships (7.41)

—Comprehensive review of the Requirements for maintenance, thorough examination, operational testing, overhaul and repair of lifeboats and rescue boats, launching appliances and release gear (resolution MSC.402(96)) to address challenges with their implementation (7.29)

—Amendments to the LSA Code for thermal performance of immersion suits (OW 14)

—Evaluation of adequacy of fire protection, detection and extinction arrangements in vehicle, special category and ro-ro spaces in order to reduce the fire risk of ships carrying new energy vehicles (7.37)

—Biennial status report and provisional agenda for SSE 12

—Election of Chair and Vice-Chair for 2026

—Any other business

—Report to the Maritime Safety Committee

Please note: The IMO may, on short notice, adjust the SSE 11 agenda to accommodate the constraints associated with the meeting format. Any changes to the agenda will be reported to those who RSVP.

Those who plan to participate should contact the meeting coordinator, LT Jeff Bors, by email at jeffrey.s.bors@uscg.mil, via phone at (571) 610-2849, or in writing at 2703 Martin Luther King Jr. Ave. SE, Stop 7509, Washington, DC 20593-7509, by February 3rd, 2024. Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than February 3, 2024. Requests made after that date will be considered but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-01479 Filed 1-21-25; 8:45 am]

BILLING CODE 4710-09-P